DEPARTMENT OF DEFENSE

Department of the Air Force

Notice of Intent To Prepare an Environmental Impact Statement (EIS) for Basing F-16 Fighting Falcon Fighter Squadron at Gowen Field—Idaho Air National Guard Base, Ada County, Boise, Idaho

AGENCY: Department of the Air Force, Department of Defense.

ACTION: Notice of intent.

SUMMARY: The Department of the Air Force (DAF) is issuing this Notice of Intent (NOI) to prepare an Environmental Impact Statement (EIS) to assess the potential social, economic, and environmental impacts associated with basing an F-16 Fighting Falcon Fighter Squadron at Gowen Field in Boise, Idaho, as well as the required facility improvements and construction necessary to support the mission. The squadron would consist of up to 21 F-16 Block 40 aircraft (18 primary and three backup/reserve) to replace the fleet of 21 A-10C aircraft (18 primary and three backup/reserve) currently operating.

DATES: A public scoping period of 30 days will take place starting from the date of this NOI publication in the Federal Register. Comments on alternatives or impacts and on relevant information, studies, or analyses with respect to the proposed agency action are requested and will be accepted at any time during the EIS process. To ensure sufficient time to consider public input in the preparation of the Draft EIS, scoping comments should be submitted in writing to the website or the address listed below within the 30-day scoping period. The Draft EIS is anticipated in Summer 2026 and the Final EIS is anticipated in Spring 2027.

ADDRESSES: The project website, www.gowenfieldf16eis.com, provides information on the EIS and the scoping process and can be used to submit scoping comments online. Scoping comments may also be submitted by email to NGB.CCA4F.NEPACOMMENTSOrg@us.af.mil, including “F-16 Gowen Field EIS” in the subject line, or by mail to Ms. Kristi Kucharek, National Guard Bureau, NGB/A4FR, 3501 Fetchet Avenue, Joint Base Andrews, MD 20762. EIS inquiries and requests for digital or print copies of scoping materials are available upon request to Ms. Kucharek at the email or mailing address provided. For printed material requests, the standard U.S. Postal Service shipping timeline will apply. Members of the public who want to receive future communications informing them about the availability of the Draft and Final EIS are encouraged to submit the contact form on the project website.

FOR FURTHER INFORMATION CONTACT: For inquiries regarding accommodations under the Americans with Disabilities Act or questions regarding the Proposed Action, scoping, and EIS development please contact Ms. Kristi Kucharek, NEPA Project Manager at NGB.CCA4F.NEPACOMMENTSOrg@us.af.mil or by phone at (208) 422-5028.

SUPPLEMENTARY INFORMATION: The DAF is the lead agency and the Federal Aviation Administration (FAA) is serving as a cooperating agency. The purpose of the Proposed Action is to effectively maintain combat capability and mission readiness for the 124th Fighter Wing (124 FW) based at the Idaho Air National Guard (IDANG) Base at the Boise Air Terminal/Gowen Field (BOI) in Boise, Idaho by transitioning the 124 FW from an A-10C Thunderbolt II mission to an F-16 Fighting Falcon mission. The Proposed Action is needed because the A-10C fleet is reaching the end of its service life and is consistent with DAF plans to divest all A-10 aircraft by FY2029. The EIS will assess the potential environmental consequences of the proposed beddown, operation, and associated infrastructure construction supporting one squadron of F-16 Fighting Falcon aircraft at IDANG Base. The squadron would consist of up to 21 F-16 Block 40 aircraft (18 primary and three backup/reserve). The EIS will also assess a No Action Alternative.

Resource areas to be analyzed include airspace, noise, air quality, biological and natural resources, cultural resources, water resources, geological resources, land use/noise compatible land use, socioeconomics, hazardous materials/waste, infrastructure and utilities, transportation and parking, community services, and aesthetics. Potential significant impacts include those related to aircraft noise, air quality, and land use. Should any permits or other authorizations be required for the Proposed Action, the NGB and DAF will identify and obtain each.

Scoping and Agency Coordination: Consultation will include, but not necessarily be limited to, Section 7 of the Endangered Species Act, Section 106 of the National Historic Preservation Act, and will include consultations with federally recognized Native American Tribes. The scoping process will be used to involve the public early in the planning and development of the EIS to assist in identifying issues and information to be addressed in the analysis. To effectively define the full range of issues to be evaluated, DAF and NGB will determine the scope of the analysis by requesting comments, including potential alternatives, information, and analyses from interested local, State, and Federal elected officials and agencies, Tribes, members of the public, and others. Comments may be submitted at any time during the process, however, to ensure consideration in the Draft EIS, comments should be received within 30 days of the publication of this notice in the Federal Register. Comments received via email, on the website, or by U.S. mail will be considered equally.

Crystle C. Poge,
Air Force Federal Register Liaison.

[FR Doc. 2026-02688 Filed 2-10-26; 8:45 am]

BILLING CODE 3911-44-P